ENVIRONMENTAL PROTECTION AGENCY

[FRL-7207-6]

EPA Science Advisory Board; Notification of Public Advisory Committee Meetings: Affordability Criterion for Drinking Water Treatment Technologies for Small Systems

Pursuant to the Federal Advisory Committee Act, Public Law 92-463, notice is hereby given of a meeting of the Environmental Economics Advisory Committee (EEAC) of the EPA Science Advisory Board (SAB) to review the Agency's affordability criterion for small systems under the Safe Drinking Water Act Amendments of 1996. The SAB was established to provide independent scientific and technical advice to the EPA Administrator on Agency positions; in this case the methodology for developing and applying the affordability criterion. The EEAC is a standing committee of the SAB and is responsible for reviewing economic guidance and analyses that are used by EPA in carrying out its mission.

The review meeting will be held on June 13, 2002 at the Holiday Inn Hotel and Suites, 625 First Street, Alexandria, VA 22314, telephone (703) 548-6300. The meeting will start at 9:00 am and conclude by 3:00 pm on that date. All times noted are Eastern Time. The meeting is open to the public, however, seating is limited and available on a first-come basis. Important Notice: Documents that are the subject of SAB reviews are normally available from the originating EPA office and are not available from the SAB Office—information concerning availability of documents from the relevant Program Office is included below.

The review will be conducted by the SAB's Environmental Economics Advisory Committee. Collectively, the appointed members of the EEAC have broad expertise in environmental economics and their expertise is appropriate to address EPA's charge which asks the SAB to address the economic aspects associated with development and application of the affordability criterion. The SAB will make use of Invited Experts to provide technical information and insights to inform the deliberations of the EEAC; however, these experts will not serve as members of this SAB Committee nor will they be signatories to the EEAC's report.

Background

The 1996 Safe Drinking Water Act (SDWA) amendments include a number of provisions intended to help minimize the financial impact that new regulations will have on small drinking water systems. Several important provisions of SDWA (e.g., compliance technologies, variance technologies, and variances) hinge on the concept of “affordability” as it applies to smaller communities across the country. The Agency currently assesses the affordability of new regulations on the basis of: (a) An estimated affordability threshold (the upper limit for the costs of water bills, including the costs of treatment, distribution, and operation), which the Agency puts at a level of 2.5% of the median household income (MHI); and (b) baseline expenditures (derived from current annual water bills and MHI). Detailed information on the Agency's approach to affordability can be found in the Report to Congress: Small System Arsenic Implementation Issues, dated March 2002 (see the report on the EPA Website at http://www.epa.gov/safewater/arsenic.html).

The Charge. The Agency is asking the SAB for advice on economic issues associated with its national-level affordability criterion, as well as the methodology used to establish the criterion. EPA asks that while taking into consideration the structure of the Safe Drinking Water Act and the limitations of readily available data and information sources, what is the Committee's opinion of the Agency's national level affordability criterion, methodology for deriving the criterion, and approach to applying those criteria to national primary drinking water regulations (NPDWRs)? Specifically, EPA is seeking the SAB's responses to the following questions:

1. What is the SAB's view of the Agency's basic approach of comparing average compliance costs for an NPDWR with an expenditure margin, which is derived as the difference between an affordability threshold and an expenditure baseline?

2. If the basic approach is retained, should a measure other than median income that captures the impact on more disadvantaged households be used as the basis for the affordability threshold? If so, what alternative measures (e.g., 10th or 25th income percentile, poverty level income) should the Agency consider and why? What would be the likely effect of such alternatives on existing and future national level affordable technology determinations?

3. What alternatives should the Agency consider to 2.5% as the income percentage for the national level affordability threshold, and what would be the likely effect of such alternatives on existing and future national level affordable technology determinations? What basis should the Agency use to select from among such alternatives? Should the Agency use costs of other household goods and services or risk reduction activities as a basis for setting the affordability threshold as was done in the development of the current criteria?

4. Does the Committee believe the Agency should consider approaches to calculating the national “expenditure baseline” other than those used by the Agency heretofore?

5. Does the Committee believe that separate national level affordability criterion should be developed for ground water and surface water systems?

6. Should the Agency include an evaluation of the potential availability of financial assistance (e.g., Drinking Water State Revolving Fund) in its national level affordability criterion? If so, how could the potential availability of such financial assistance that reduces household burden be taken into consideration?

7. Is there a need for making affordable technology determinations on a regional rather than a national basis? Does adequate, readily available information exist to support such an approach? EPA is still exploring the degree of flexibility afforded by SDWA to make regional determinations, but would appreciate the Committee's advice on whether such determinations are feasible and warranted.

Approach to Conducting the Review—EPA has asked the EPA Science Advisory Board for advice on economic issues associated with its national-level affordability criterion. In addition to its focused discussion on the economic aspects of this issue with the SAB, EPA intends to obtain input on broader aspects of the criterion and the process for its establishment, from its National Drinking Water Advisory Council (NDWAC) and through interactions with a broad group of stakeholders that it intends to convene subsequent to the SAB review.

The SAB has determined that the appropriate Panel for conducting this focused review is its Environmental Economics Advisory Committee (EEAC), complemented by Invited Experts who can provide EEAC members with information on and insights into drinking water treatment techniques. By this notice, the public is invited to suggest names of experts who are appropriate for use as invited experts in this regard. The Invited Experts will not be members of the Panel, per se, and will not be signatories to the EEAC's report, nor will they be a part of analysis of balance of bias on this topic for the EEAC itself. Suggestions for Invited Experts should include the individual's name, affiliation, position, contact information (telephone number, mailing address, and email address and/or Website), a current resume (preferably in electronic form), and a statement regarding the nominee's background, experience, and qualifications to serve as an Invited Expert for this activity.

Biographical sketches of the EEAC members who are participating in this review can be found on the SAB Website at www.epa.gov/SAB/. By this notice, the public is invited to provide the EPA Science Advisory Board with information or analyses pertinent to the service of any of these individuals on the review. Information, preferably in electronic form, must be received no later than May 10, 2002. Information should be sent by mail to Mr. Thomas O. Miller, Designated Federal Officer, SAB Environmental Economics Advisory Committee (see contact information below). A final roster of the participating EEAC members, along with the Invited Experts, will be placed on the SAB Website no later than May 14, 2002.

The EEAC will deliberate in public session on June 13, 2002 in Alexandria, VA at the Holiday Inn Hotel and Suites, 625 First Street, Alexandria, VA 22314, telephone (703) 548-6300. The Meeting will convene at 9:00 am and adjourn no later than 3:00 pm Eastern Time. Not later than four weeks prior to the meeting, the Agency will send the group background information that will be the focus of their discussion at the public meeting. Material distributed to the EEAC and Invited Experts will be available from the Agency, not the SAB itself. To obtain copies of materials provided to the SAB, members of the public should contact by mail Mr. Amit Kapadia, US Environmental Protection Agency, Office of Ground Water and Drinking Water, Standards and Risk Management Division (4607M), 1200 Pennsylvania, Ave., NW, Washington, DC 20460; by email kapadia.amit@epa.gov; by FAX at (202) 564-3760; or by telephone at (202) 564-4879.

Approximately four weeks after the face-to-face meeting, the EEAC and Invited Experts will have a contingency conference call to resolve any outstanding issues before sending their report to the SAB Executive Committee for action and subsequent transmittal to the Administrator. The date and time of the contingency conference call will be posted on the SAB Website (www.epa.gov/sab) by June 15, 2002.

For Further Information: Any member of the public wishing further information concerning this meeting or who wishes to submit brief oral comments must contact Mr. Thomas O. Miller, Designated Federal Officer, SAB Environmental Economics Advisory Committee, USEPA Science Advisory Board (1400A), Suite 6450CC, 1200 Pennsylvania Avenue, NW, Washington, DC 20460; telephone/voice mail at (202) 564-4558; fax at (202) 501-0582; or via e-mail at miller.tom@epa.gov. Requests for oral comments must be in writing (e-mail, fax or mail) and received by Mr. Miller no later than noon Eastern Time five business days prior to the meeting date (June 6, 2002). See below for time limitations on public comments.

Members of the public desiring additional information about the meeting location must contact Ms. Renee Cooper, EPA Science Advisory Board (1400A), Suite 6450N, U.S. EPA, 1200 Pennsylvania Avenue, NW, Washington, DC 20460; telephone/voice mail at (202) 564-4533; fax at (202) 501-0582; or via e-mail at cooper.renee@epa.gov.

A copy of the draft agenda for each meeting will be posted on the SAB Website (www.epa.gov/SAB/) (under the AGENDAS subheading) approximately 10 days before that meeting.

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the review panel for their consideration. Comments should be supplied to the appropriate DFO at the address/contact information noted above in the following formats: one hard copy with original signature, and one electronic copy via e-mail (acceptable file format: Adobe Acrobat, WordPerfect, Word, or Rich Text files (in IBM-PC/Windows 95/98 format). Those providing written comments and who attend the meeting are also asked to bring 35 copies of their comments for public distribution.

Meeting Access

Individuals requiring special accommodation at this meeting, including wheelchair access to the conference room, should contact Mr. Miller at least five business days prior to the meeting so that appropriate arrangements can be made.

General Information

Additional information concerning the Science Advisory Board, its structure, function, and composition, may be found on the SAB Website (http://www.epa.gov/sab) and in the Science Advisory Board FY2001 Annual Staff Report which is available from the SAB Publications Staff at (202) 564-4533 or via fax at (202) 501-0256.

Dated: April 29, 2002.
Donald G. Barnes,
Staff Director, Science Advisory Board.

[FR Doc. 02-11300 Filed 5-6-02; 8:45 am]

BILLING CODE 6560-50-P